DEPARTMENT OF TRANSPORTATION

Federal Aviation Administration

14 CFR Part 39

[Docket No. FAA-2012-0143; Directorate Identifier 2011-NM-077-AD; Amendment 39-17252; AD 2012-22-15]

RIN 2120-AA64

Airworthiness Directives; Fokker Services B.V. Airplanes

AGENCY: Federal Aviation Administration (FAA), Department of Transportation (DOT).

ACTION: Final rule.

SUMMARY: We are superseding an existing airworthiness directive (AD) for all Fokker Services B.V. Model F.28 Mark 0070 and 0100 airplanes. That AD currently requires revising the airworthiness limitations section (ALS) of the instructions for continued airworthiness for certain airplanes, and the FAA-approved maintenance program for certain other airplanes, to incorporate new limitations. This new AD requires revising the maintenance program to incorporate the limitations, tasks, thresholds, and intervals specified in certain revised Fokker maintenance review board (MRB) documents. This AD was prompted by a revised Fokker 70/100 MRB document with revised limitations, tasks, thresholds, and intervals. We are issuing this AD to reduce the potential of structural failures or of ignition sources inside fuel tanks, which, in combination with flammable fuel vapors, could result in fuel tank explosions and consequent loss of the airplane.

DATES: This AD becomes effective December 20, 2012.

The Director of the Federal Register approved the incorporation by reference of certain publications listed in this AD as of December 20, 2012.

The Director of the Federal Register approved the incorporation by reference of certain other publications listed in this AD as of August 31, 2004 (69 FR 44586, July 27, 2004).

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Tom Rodriguez, Aerospace Engineer, International Branch, ANM-116, Transport Airplane Directorate, FAA, 1601 Lind Avenue SW., Renton, Washington 98057-3356; telephone (425) 227-1137; fax (425) 227-1149.

SUPPLEMENTARY INFORMATION:

Discussion

We issued a supplemental notice of proposed rulemaking (SNPRM) to amend 14 CFR part 39 to include an AD that would apply to the specified products. That SNPRM was published in the Federal Register on August 14, 2012 (77 FR 48473), and proposed to supersede AD 2004-15-08, Amendment 39-13742 (69 FR 44586, July 27, 2004). That SNPRM proposed to correct an unsafe condition for the specified products. The Mandatory Continuing Airworthiness Information (MCAI) states:

Fokker Services published issue 3 of report SE-672 dated 3 January 2012 and issue 9 of report SE-473 dated 11 January 2012, both part of the Airworthiness Limitations Section (ALS) of the Instructions for Continued Airworthiness, referred to in Section 06, Appendix 1, of the Fokker 70/100 Maintenance Review Board (MRB) document. The complete ALS currently consists of:

—Certification Maintenance Requirements (CMRs)—report SE-473, issue 9

—Airworthiness Limitation Items (ALIs) and Safe Life Items (SLIs)—report SE-623, issue 8

—Fuel ALIs and Critical Design Configuration Control Limitations (CDCCLs)—report SE-672, issue 3

The instructions contained in those reports have been identified as mandatory actions for continued airworthiness.

For the reasons described above, this [European Aviation Safety Agency (EASA)] AD retains the requirements of EASA AD 2011-0157, which is superseded, and requires the implementation of the inspections and limitations as specified in the ALS of the Instructions for Continued Airworthiness, referred to in Section 06, Appendix 1 of the Fokker 70/100 MRB document, reports SE-473, SE-623 and SE-672 at the above-mentioned issues.

We have determined that the actions identified in this AD are necessary to reduce the potential of structural failures or of ignition sources inside fuel tanks, which, in combination with flammable fuel vapors, could result in fuel tank explosions and consequent loss of the airplane. You may obtain further information by examining the MCAI in the AD docket.

Comments

We gave the public the opportunity to participate in developing this AD. We received no comments on the SNPRM (77 FR 48473, August 14, 2012) or on the determination of the cost to the public.

Conclusion

We reviewed the available data and determined that air safety and the public interest require adopting the AD as proposed, except for minor editorial changes. We have determined that these minor changes:

• Are consistent with the intent that was proposed in the SNPRM (77 FR 48473, August 14, 2012) for correcting the unsafe condition; and

• Do not add any additional burden upon the public than was already proposed in the SNPRM (77 FR 48473, August 14, 2012).

Costs of Compliance

Based on the service information, we estimate that this AD will affect about 13 products of U.S. registry.

The actions that are required by AD 2004-15-08, Amendment 39-13742 (69 FR 44586, July 27, 2004), and retained in this AD take about 1 work-hour per product, at an average labor rate of $85 per work hour. The actions that are required by AD 2008-06-20, Amendment 39-15432 (73 FR 14661, March 19, 2008), and retained in this AD take about 1 work-hour per product, at an average labor rate of $85 per work hour. Based on these figures, the estimated cost of the currently required actions is $170 per product.

We estimate that it would take about 1 work-hour per product to comply with the new basic requirements of this AD. The average labor rate is $85 per work-hour. Based on these figures, we estimate the cost of the AD on U.S. operators to be $1,105, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the SNPRM (77 FR 48473, August 14, 2012), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2004-15-08, Amendment 39-13742 (69 FR 44586, July 27, 2004), and adding the following new AD:

2012-22-15 Fokker Services B.V.: Amendment 39-17252. Docket No. FAA-2012-0143; Directorate Identifier 2011-NM-077-AD.

(a) Effective Date

This airworthiness directive (AD) becomes effective December 20, 2012.

(b) Affected ADs

This AD supersedes AD 2004-15-08, Amendment 39-13742 (69 FR 44586, July 27, 2004). This AD also affects AD 2008-06-20, Amendment 39-15432 (73 FR 14661, March 19, 2008).

(c) Applicability

(1) This AD applies to Fokker Services B.V. Model F.28 Mark 0070 and 0100 airplanes, certificated in any category, all serial numbers.

(2) This AD requires revisions to certain operator maintenance documents to include new actions (e.g., inspections) and/or Critical Design Configuration Control Limitations (CDCCLs). Compliance with these actions and/or CDCCLs is required by 14 CFR 91.403(c). For airplanes that have been previously modified, altered, or repaired in the areas addressed by this AD, the operator may not be able to accomplish the actions described in the revisions. In this situation, to comply with 14 CFR 91.403(c), the operator must request approval for an alternative method of compliance according to paragraph (n) of this AD. The request should include a description of changes to the required actions that will ensure the continued operational safety of the airplane.

(d) Subject

Air Transport Association (ATA) of America Code 28, Fuel.

(e) Reason

This AD was prompted by a revised Fokker 70/100 maintenance review board (MRB) document with revised limitations, tasks, thresholds, and intervals. We are issuing this AD to reduce the potential of structural failures or of ignition sources inside fuel tanks, which, in combination with flammable fuel vapors, could result in fuel tank explosions and consequent loss of the airplane.

(f) Compliance

You are responsible for having the actions required by this AD performed within the compliance times specified, unless the actions have already been done.

(g) Retained Airworthiness Limitations Revision

This paragraph restates the requirements of paragraph (c) of AD 2004-15-08, Amendment 39-13742 (69 FR 44586, July 27, 2004). Within 6 months after August 31, 2004 (the effective date of AD 2004-15-08), revise the Airworthiness Limitations section (ALS) of the Instructions for Continued Airworthiness by incorporating Fokker Services B.V. Report SE-623, “Fokker 70/100 Airworthiness Limitations Items and Safe Life Items,” Issue 2, dated September 1, 2001; and Fokker Services B.V. Report SE-473, “Fokker 70/100 Certification Maintenance Requirements,” Issue 5, dated July 16, 2001; into Section 6 of the Fokker 70/100 MRB document. (These reports are already incorporated into Fokker 70/100 MRB document, Revision 10, dated October 1, 2001.) Once the actions required by this paragraph have been accomplished, the original issue of Fokker Services B.V. Report SE-623, “Fokker 70/100 Airworthiness Limitations Items and Safe Life Items,” dated June 1, 2000, may be removed from the ALS of the Instructions for Continued Airworthiness. Doing the actions specified in paragraph (i) of this AD terminates the requirements of paragraph (g) of this AD.

(h) Retained Requirement for No Alternative Inspections or Intervals

This paragraph restates the requirements of paragraph (e) of AD 2004-15-08, Amendment 39-13742 (69 FR 44586, July 27, 2004).

(1) After the actions required by paragraph (g) of this AD have been accomplished, no alternative inspections or inspection intervals may be approved for the structural elements specified in the documents identified in paragraph (g) of this AD, except as required by paragraph (k) of this AD.

(2) Notwithstanding any other maintenance or operational requirements, components that have been identified as airworthy or installed on the affected airplanes before the revision of the ALS for certain airplanes, and the maintenance program for certain other airplanes, as required by paragraph (i) of this AD, do not need to be reworked in accordance with the critical design configuration control limitations (CDCCLs). However, once the ALS for certain airplanes, and the maintenance program for certain other airplanes, has been revised, future maintenance actions on these components must be done in accordance with the CDCCLs.

(i) New Maintenance Program Revision

Within 3 months after the effective date of this AD, revise the maintenance program to incorporate the airworthiness limitations specified in the Fokker MRB documents identified in paragraphs (i)(3), (i)(4), and (i)(5) of this AD. For all tasks and retirement lives identified in the Fokker MRB documents identified in paragraphs (i)(3), (i)(4), and (i)(5) of this AD, the initial compliance times start from the later of the times specified in paragraphs (i)(1) and (i)(2) of this AD, and the repetitive inspections must be accomplished thereafter at the applicable interval specified in the Fokker MRB documents identified in paragraphs (i)(3), (i)(4), and (i)(5) of this AD.

(1) Within 3 months after the effective date of this AD.

(2) At the time specified in the documents identified in paragraphs (i)(3), (i)(4), and (i)(5) of this AD.

(3) Fokker Report SE-473, “Fokker 70/100 Certification Maintenance Requirements,” Issue 9, released January 11, 2012.

(4) Fokker Report SE-623, “Fokker 70/100 Airworthiness Limitation Items and Safe Life Items,” Issue 8, released March 17, 2011.

(5) Fokker Report SE-672, “Fokker 70/100 Fuel Airworthiness Limitation Items (ALI) and Critical Design Configuration Control Limitations (CDCCL),” Issue 3, released January 4, 2012.

(j) New Corrective Actions

If any discrepancy (as defined in the documents specified in paragraphs (i)(3), (i)(4), and (i)(5) of this AD) is found during accomplishment of any task specified in the documents specified in paragraphs (i)(3), (i)(4), and (i)(5) of this AD: Within the applicable compliance time specified in the applicable documents specified in paragraphs (i)(3), (i)(4), and (i)(5) of this AD, accomplish the corrective actions in accordance with the applicable documents specified in paragraphs (i)(3), (i)(4), and (i)(5) of this AD. If no compliance time is identified in the applicable documents specified in paragraphs (i)(3), (i)(4), and (i)(5) of this AD, accomplish the applicable corrective actions before further flight. If any discrepancy is found and there is no corrective action specified in the applicable documents specified in paragraphs (i)(3), (i)(4), and (i)(5) of this AD: Before further flight contact the Manager, International Branch, ANM-116, Transport Airplane Directorate, FAA, or the European Aviation Safety Agency (EASA) (or its delegated agent), for approved corrective actions, and accomplish those actions before further flight.

(k) No Alternative Actions, Intervals, and/or CDCCLs

After accomplishing the revision required by paragraph (i) of this AD, no alternative actions (e.g., inspections), intervals, or CDCCLs may be used unless the actions, intervals, or CDCCLs are approved as an alternative method of compliance (AMOC) in accordance with the procedures specified in paragraph (n)(1) of this AD.

(l) Terminating Action

Accomplishing the actions specified in paragraph (i) of this AD terminates the requirements of paragraph (g) of this AD.

(m) Method of Compliance With AD 2008-06-20, Amendment 39-15432 (73 FR 14661, March 19, 2008)

Accomplishing the actions specified in paragraph (i) of this AD terminates the requirements of paragraphs (f)(1) through (f)(5) of AD 2008-06-20, Amendment 39-15432 (73 FR 14661, March 19, 2008).

(n) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA 1601 Lind Avenue SW., Renton, Washington 98057-3356; telephone (425) 227-1137; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(o) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on December 20, 2012.

(i) Fokker Report SE-473, “Fokker 70/100 Certification Maintenance Requirements,” Issue 9, released January 11, 2012.

(ii) Fokker Report SE-623, “Fokker 70/100 Airworthiness Limitation Items and Safe Life Items,” Issue 8, released March 17, 2011.

(iii) Fokker Report SE-672, “Fokker 70/100 Fuel Airworthiness Limitation Items (ALI) and Critical Design Configuration Control Limitations (CDCCL),” Issue 3, released January 4, 2012.

(4) The following service information was approved for IBR on August 31, 2004 (69 FR 44586, July 27, 2004).

(i) Fokker Services B.V. Report SE-473, “Fokker 70/100 Certification Maintenance Requirements,” Issue 5, dated July 16, 2001.

(ii) Fokker Services B.V. Report SE-623, “Fokker 70/100 Airworthiness Limitation Items and Safe Life Items,” Issue 2, dated September 1, 2001.

(5) For service information identified in this AD, contact Fokker Services B.V., Technical Services Dept., P.O. Box 1357, 2130 EL Hoofddorp, the Netherlands; telephone +31 (0)88-6280-350; fax +31 (0)88-6280-111; email technicalservices@fokker.com; Internet http://www.myfokkerfleet.com.

(6) You may review copies of the service information at the FAA, Transport Airplane Directorate, 1601 Lind Avenue SW., Renton, WA. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on October 30, 2012.
Ali Bahrami,
Manager, Transport Airplane Directorate, Aircraft Certification Service.

[FR Doc. 2012-27057 Filed 11-14-12; 8:45 am]

BILLING CODE 4910-13-P